INTERNATIONAL TRADE COMMISSION

[Investigation No. 337-TA-969]

Certain Blood Cholesterol Test Strips and Associated Systems Containing the Same; Commission's Determination Not To Review an Initial Determination Terminating the Investigation; Termination of the Investigation

AGENCY: U.S. International Trade Commission.

ACTION: Notice.

SUMMARY: Notice is hereby given that the U.S. International Trade Commission has determined not to review the presiding administrative law judge's (“ALJ”) initial determination (“ID”) (Order No. 8) granting a joint motion to terminate the investigation.

FOR FURTHER INFORMATION CONTACT: Amanda Pitcher Fisherow, Esq., Office of the General Counsel, U.S. International Trade Commission, 500 E Street SW., Washington, DC 20436, telephone (202) 205-2737. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on November 5, 2015, based on a complaint filed on behalf of Polymer Technology Systems, Inc. of Indianapolis, Indiana (“Complainant”). 80 FR 68563 (Nov. 5, 2015). The complaint alleged violations of Section 337 of the Tariff Act of 1930, as amended, 19 U.S.C. 1337, in the sale for importation or sale within the United States after importation of certain blood cholesterol test strips and associated systems containing same by reason of infringement of certain claims of U.S. Patent No. 7,087,397. The notice of investigation named Infopia Co., Ltd. of Gyeonggi-do, Korea; Infopia America LLC of Titusville, Florida; and Jant Pharmacal Corporation of Encino, California as respondents. The Office of Unfair Import Investigations was also named as a party but later withdrew from the investigation.

On January 19, 2016, the private parties filed a joint motion to terminate the investigation based on a settlement agreement.

On January 20, 2016, the ALJ granted the joint motion to terminate. The ALJ found the parties included confidential and public versions of the settlement agreement and that the parties represented that there are no other agreements, written or oral, express or implied concerning the subject matter of the investigation. The ALJ also found that termination of the investigation is not contrary to the public interest. No petitions for review were filed.

The Commission has determined not to review the subject ID.

The authority for the Commission's determination is contained in section 337 of the Tariff Act of 1930, as amended (19 U.S.C. 1337), and in part 210 of the Commission's Rules of Practice and Procedure (19 CFR part 210).

Issued: February 5, 2016.
By order of the Commission.
Lisa R. Barton,
Secretary to the Commission.

[FR Doc. 2016-02691 Filed 2-9-16; 8:45 am]

BILLING CODE 7020-02-P